DEPARTMENT OF DEFENSE

Office of the Secretary

[Docket ID: DOD-2021-OS-0021]

Proposed Collection; Comment Request

AGENCY: The Office of the Under Secretary of Defense for Personnel and Readiness, Department of Defense (DoD).

ACTION: Information collection notice.

SUMMARY: In compliance with the Paperwork Reduction Act of 1995, the Office of the Under Secretary of Defense (Personnel and Readiness) (OUSD (P&R)) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by July 27, 2021.

ADDRESSES: You may submit comments, identified by docket number and title, by any of the following methods:

Federal eRulemaking Portal: http://www.regulations.gov. Follow the instructions for submitting comments.

Mail: The DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Ms. Angela Duncan at the Department of Defense, Washington Headquarters Services, ATTN: Executive Services Directorate, Directives Division, 4800 Mark Center Drive, Suite 03F09-09, Alexandria, VA 22350-3100 or call 571-372-7574.

SUPPLEMENTARY INFORMATION:

Title; Associated Form; and OMB Number: 2021 Active Duty Spouse Survey, OMB Control Number 0704-0604.

Needs and Uses: The DoD Survey of Active Duty Spouse Survey (ADSS) is the primary source for reliable and generalizable data on the effects of military life on military spouses and their families and the effectiveness of current programs and policies related to military families. The survey is designed to enhance understanding of how spouse and family resilience impact force readiness and retention and is also an indicator informing the effectiveness of programs and policies under the purview of DoD's Military Community and Family Policy (MC&FP) Department. Without this biennial survey, DoD would not have current data to guide limited resources to the appropriate programs, policies, and services related to military spouses, their families and ultimately Service members.

This survey provides an opportunity for military spouses to directly expand policy maker's knowledge by sharing opinions on issues that directly affect them. Success of current efforts and shortfalls in programs and policies are identified through this biennial survey. These survey results ensure decisions based on current and statistically reliable data.

The legislation authorizing the USD(P&R) to conduct these surveys is provided under 10 United States Code (U.S.C.), Sections 136, 1782 and 2358, and 37 U.S.C., Section 1008(b).

Affected Public: Individuals or households.

Annual Burden Hours: 18,175.

Number of Respondents: 72,700.

Responses per Respondent: 1.

Annual Responses: 72,700.

Average Burden per Response: 15 minutes.

Frequency: One time.

The Office of People Analytics (OPA) will administer the 2021 Active Duty Spouse Survey (ADSS) to active duty spouses of Army, Navy, Marine Corps, and Air Force members who are below flag rank. Active duty spouses will receive one of two versions of the ADSS, either a four-question supplemental ADSS or a full ADSS with 74 questions. Only spouses selected as part of the random sample will be asked to complete the full ADSS. The full ADSS quantitative results are generalizable to the entire active duty spouse population, while the supplemental ADSS results will be analyzed for qualitative patterns and themes.

OPA uses a sampling tool developed by the Research Triangle Institute (RTI) to determine the sample size needed to achieve 95% confidence and an associated precision of 5% or less on each reporting category domain. We select a single-stage, non-proportional stratified random sample to ensure statistically adequate expected number of responses for the reporting domains. OPA uses Service, paygrade, gender, and family status to define the initial strata. We collapse these strata when there are fewer than 200 individuals in the stratum. OPA weights the eligible respondents in order to make inferences about the entire population of active duty spouses. The weighting methodology utilizes standard weighting processes.

The full ADSS and supplemental ADSS contain two matching questions which will be used to gauge potential differences between the scientifically sampled and weighted ADSS responses and the convenience sample responding to the supplemental survey. At the end of the supplemental short survey, spouses will be asked if they would like to voluntarily provide their personal email address to be contacted for future spouse surveys.

The supplemental ADSS and full ADSS are administered via the web. The full ADSS also includes a paper survey option and QR code link to the survey to maximize response rates. Respondents may access the survey via the web on a device they select. The web survey will be administered on proprietary software developed by OPA's operations contractor, Data Recognition Corporation (DRC). Digitally signed emails, electronic files, and web-based technology will be used for respondent communications and for data collection.

Dated: May 25, 2021.
Kayyonne T. Marston,
Alternate OSD Federal Register Liaison Officer, Department of Defense.

[FR Doc. 2021-11359 Filed 5-27-21; 8:45 am]

BILLING CODE 5001-06-P